DEPARTMENT OF ENERGY

Federal Energy Regulatory Commission

[Project No. 6756-011]

Green Mountain Power Corporation; Sugar River Power LLC; Notice of Transfer of Exemption

1. On March 20, 2020, Green Mountain Power Corporation, exemptee for the Lower Valley Hydroelectric Project No. 6756, filed a letter notifying the Commission that the project was transferred from Green Mountain Power Corporation to Sugar River Power LLC. The exemption from licensing was originally issued on November 9, 1982.¹ The project is located on the Sugar River in Sullivan County, New Hampshire. The transfer of an exemption does not require Commission approval.

¹ Claremont Hydro Associates, 21 FERC ¶ 62,216 (1982). The project was transferred to Green Mountain Power Corporation on August 15, 2017.

2. Sugar River Power LLC is now the exemptee of the Lower Valley Hydroelectric Project No. 6756. All correspondence must be forwarded to: Sugar River Power LLC, c/o Mr. Robert E. King, 42 Hurricane Road, Keene, NH 03431, Email: bking31415@gmail.com.

Dated: April 15, 2020.
Kimberly D. Bose,
Secretary.

[FR Doc. 2020-08443 Filed 4-21-20; 8:45 am]

BILLING CODE 6717-01-P